ENVIRONMENTAL PROTECTION AGENCY

[ER-FRL-9034-5]

Environmental Impact Statements; Notice of Availability

Responsible Agency: Office of Federal Activities, General Information (202) 564-7146 or http://www.epa.gov/nepa.

Weekly receipt of Environmental Impact Statements (EISs)

Filed 07/24/2017 Through 07/28/2017

Pursuant to 40 CFR 1506.9.

Notice

Section 309(a) of the Clean Air Act requires that EPA make public its comments on EISs issued by other Federal agencies. EPA's comment letters on EISs are available at: http://www.epa.gov/compliance/nepa/eisdata.html.

EIS No. 20170143, Final, FHWA, UT, I-80 and State Street Interchange, Contact: Brandon Weston, 801-965-4603.

Under MAP-21 Section 1319, FHWA has issued a single FEIS and ROD. Therefore, the 30-day wait/review period under NEPA does not apply to this action.

EIS No. 20170144, Final Supplement, BOEM, MA, Cape Wind Energy Project, Review Period Ends: 09/05/2017, Contact: Michelle Morin 703-787-1722.

EIS No. 20170145, Final, NSF, PR, Arecibo Observatory, Review Period Ends: 09/05/2017, Contact: Elizabeth Pentecost 703-292-4907.

EIS No. 20170146, Draft, USAF, AK, Air Force Proposal to Improve F-22 Operational Efficiency at Joint Base Elmendorf-Richardson (JBER), Alaska, Comment Period Ends: 09/18/2017, Contact: JBER Public Affairs 907-552-8151.

EIS No. 20170147, Final, USFS, CA, Trestle Forest Health Project, Review Period Ends: 09/05/2017, Contact: Jennifer Marsolais 530-642-5187.

EIS No. 20170148, Final, FERC, WV, Mountaineer Xpress and Gulf XPress Projects, Review Period Ends: 09/05/2017, Contact: Julia Yuan 202-502-8130.

EIS No. 20170149, Final, BOEM, LA, Geological and Geophysical Activities on the Gulf of Mexico Outer Continental Shelf, Review Period Ends: 09/05/2017, Contact: Terri Thomas 504-736-2963.

Dated: August 1, 2017.
Dawn Roberts,
Management Analyst, NEPA Compliance Division, Office of Federal Activities.

[FR Doc. 2017-16479 Filed 8-3-17; 8:45 am]

BILLING CODE 6560-50-P